DEPARTMENT OF AGRICULTURE

Forest Service

San Juan National Forest; Columbine Ranger District; Colorado; Hermosa Landscape Grazing Analysis; Correction

AGENCY: Forest Service, USDA.

ACTION: Notice of intent to prepare an environmental impact statement; correction.

SUMMARY: The San Juan National Forest published a document in the Federal Register of January 17, 2008, giving notice of intent to prepare an Environmental Impact Statement. The document contained incorrect location information in the Summary.

FOR FURTHER INFORMATION CONTACT: Cam Hooley, 970-884-1414, chooley@fs.fed.us.

Correction

In the Federal Register of January 17, 2008, in FR Doc. E8-749, on page 3234, in the third column, correct the “Summary” caption to read:

SUMMARY: The San Juan National Forest proposes to continue to authorize livestock grazing on all or portions of the Hermosa Landscape in a manner that moves resource conditions toward desired on-the-ground conditions and is consistent with Forest Plan standards and guidelines. The analysis area encompasses approximately 122,000 acres on three active cattle allotments (Elbert Creek, Dutch Creek, and Upper Hermosa) and four vacant cattle allotments (Cascade, Forebay, Hope Creek, and South Fork). The area is located north of Durango, Colorado, in San Juan and La Plata Counties, in Townships 37-40 North, Ranges 8-11 West, N.M.P.M. and is within the Columbine Ranger District, San Juan National Forest, Colorado.

The proposed action is designed to increase the flexibility of livestock grazing systems through adaptive management, which will allow quicker and more effective response to problems areas when they are revealed. Problems will be revealed through the use of short and long term monitoring. Application of adaptive management practices should result in healthier soil, watershed, and vegetative conditions.

Dated: January 25, 2008.
Pauline E. Ellis,
District Ranger/Field Office Manager.

[FR Doc. E8-1728 Filed 1-30-08; 8:45 am]

BILLING CODE 3410-11-P